DEPARTMENT OF TRANSPORTATION

Federal Railroad Administration

[Docket No. FRA-2022-0046]

Palmetto Railways Request for Approval of a Railroad Safety Program Plan and Product Safety Plan

AGENCY: Federal Railroad Administration (FRA), Department of Transportation (DOT).

ACTION: Notice of availability and request for comments.

SUMMARY: This document provides the public with notice that, on August 18, 2021, Palmetto Railways submitted a request for FRA approval of its Railroad Safety Program Plan (RSPP) and Product Safety Plan (PSP) for use of the RailSoft TrackAccess system in autonomous mode on its Charity Church Subdivision. As this request for FRA's approval involves a railroad's PSP, FRA is publishing this notice and inviting public comment on the document.

DATES: Written comments must be received on or before July 28, 2022. FRA will consider comments filed after this date to the extent practicable.

ADDRESSES: Comments: Comments related to this Notice may be submitted by going to https://www.regulations.gov and following the online instructions for submitting comments.

Instructions: All submissions must include the agency name and docket number (FRA-2022-0046). Please note that comments submitted online via www.regulations.gov are not immediately posted to the docket. Several business days may elapse after a comment has been submitted online before it is posted to the docket.

Privacy Act: DOT solicits comments from the public to better inform its regulatory process. DOT posts these comments, without edit, to www.regulations.gov, as described in the system of records notice, DOT/ALL-14 FDMS, accessible through www.dot.gov/privacy. To facilitate comment tracking and response, commenters are encouraged to provide their name, or the name of their organization; however, submission of names is completely optional. Whether or not commenters identify themselves, all timely comments will be fully considered. If you wish to provide comments containing proprietary or confidential information, please contact the agency for alternate submission instructions.

Docket: For access to the docket to read comments received, please visit https://www.regulations.gov and follow the online instructions for accessing the docket.

FOR FURTHER INFORMATION CONTACT: Gabe Neal, Staff Director, Signal, Train Control, and Crossings Division, telephone: 816-516-7168, email: Gabe.Neal@dot.gov.

SUPPLEMENTARY INFORMATION: In accordance with part 236 of title 49, Code of Federal Regulations, and sec. 20502(a) of title 49, United States Code, this document provides the public notice that Palmetto Railways has petitioned FRA for approval of a PSP for use of the RailSoft TrackAccess system in autonomous mode on its Charity Church Subdivision. FRA has assigned the petition Docket Number FRA-2022-0046. Palmetto Railways' PSP has been placed in this docket and is available for public inspection and comment.

The TrackAccess system is a processor-based dispatch system developed by RailSoft Systems to be operated in autonomous mode (without dispatcher intervention) for low-density rail lines. RailSoft indicates that the system provides a processor-based methodology of requesting and issuing track authority to either qualified train crew members or roadway workers, while increasing railroad productivity and significantly improving the safety of train operations, roadway workers, and other railway equipment.

FRA is also providing public notice that Palmetto Railways' RSPP has been placed in Docket Number FRA-2022-0046 and is available for public inspection. FRA is not, however, accepting public comment on the RSPP; notice regarding the availability of the RSPP is provided for information only.

Palmetto Railways asserts that its PSP, dated August 18, 2021, contains the same information and analysis as the Alabama and Tennessee River Railway's (ATN) PSP, Rev. 1, except that Palmetto Railways' PSP has been conformed to reflect only Palmetto Railways operations. FRA approved ATN's use of TrackAccess in autonomous mode when FRA approved ATN's PSP, Rev. 1, on January 28, 2014, available in Docket FRA-2013-0088. Therefore, Palmetto Railways is seeking FRA approval to use the TrackAccess system in autonomous mode on its Charity Church Subdivision, through approval of Palmetto Railways' PSP, dated August 18, 2021. Currently, Palmetto Railways is using the TrackAccess system in dispatcher-assisted mode and has done so without incident since April 2007.

Interested parties are invited to comment on Palmetto Railways' PSP by submitting comments to the electronic docket. Please refer to the ADDRESSES section above for guidance on how to submit comments to the electronic docket.

Issued in Washington, DC.
Carolyn R. Hayward-Williams,
Director, Office of Railroad Systems and Technology.

[FR Doc. 2022-12640 Filed 6-10-22; 8:45 am]

BILLING CODE 4910-06-P